OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103(b).

FOR FURTHER INFORMATION CONTACT: Ms. Cathy Penn, Center for Leadership and Executive Resources Policy, Division for Strategic Human Resources Policy, 202-606-2671.

SUPPLEMENTARY INFORMATION: Appearing in the listing below are the individual authorities established under Schedule C between July 1, 2004, and July 31, 2004. Future notices will be published on the fourth Tuesday of each month, or as soon as possible thereafter. A consolidated listing of all authorities as of June 30 is published each year.

Schedule A

U.S. Department of Health and Human Services

HHS may use this Schedule A Authority under 5 CFR 213.3102(i)(3) for positions that directly respond to declared public health emergencies. HHS may use this hiring authority only when the urgency of filling positions prohibits examining through the competitive process. HHS will apply veterans preference using procedures in 5 CFR 302. Appointments under this Schedule A authority will be temporary and may not exceed the service limits in 5 CFR 213.104 or the duration of the emergency, which ever occurs first. Effective July 9, 2004.

Schedule B

No Schedule B appointments for July 2004.

Schedule C

The following Schedule C appointments were approved for July 2004:

Executive Office of the President

Section 213.3303 Office of Science and Technology Policy

TSGS60033 Confidential Assistant to Chief of Staff and General Counsel. Effective July 02, 2004

TSGS60034 Assistant to the Director for Communications and Public Relations to the Chief of Staff and General Counsel. Effective July 02, 2004

Section 213.3304 Department of State

DSGS60778 Foreign Affairs Officer to the Assistant Secretary for Near Eastern and South Asian Affairs. Effective July 02, 2004

DSGS60773 Special Assistant to the Assistant Secretary, Bureau of Verification and Compliance. Effective July 08, 2004

DSGS60779 Foreign Affairs Officer to the Assistant Secretary for Western Hemispheric Affairs. Effective July 08, 2004

DSGS60781 Public Affairs Specialist to the Assistant Secretary for Public Affairs. Effective July 08, 2004

DSGS60782 Special Assistant to the Assistant Secretary for African Affairs. Effective July 26, 2004

Section 213.3305 Department of the Treasury

DYGS00423 Special Assistant to the Secretary to the Chief of Staff. Effective July 02, 2004

DYGS00433 Director of Public and Legislative Affairs to the Director, Community Development Financial Institutions. Effective July 22, 2004

Section 213.3306 Department of the Defense

DDGS16821 Speechwriter to the Principal Deputy Assistant Secretary of Defense for Public Affairs. Effective July 16, 2004

DDGS16823 Public Affairs Specialist to the Deputy Assistant Secretary of Defense (Strategic Communications Planning). Effective July 16, 2004

DDGS16827 Staff Assistant to the Special Assistant to the Secretary of Defense for White House Liaison. Effective July 16, 2004

DDGS16829 Defense Fellow to the Special Assistant to the Secretary of Defense for White House Liaison. Effective July 26, 2004

DDGS16830 Personal and Confidential Assistant to the Assistant Secretary of Defense (Special Operations/Low Intensity Conflict). Effective July 28, 2004

DDGS16826 Special Assistant to the Principal Deputy Assistant Secretary of Defense (Legal Affairs). Effective July 30, 2004

DDGS16828 Protocol Officer to the Special Assistant to the Secretary of Defense for Protocol. Effective July 30, 2004

Section 213.3307 Department of the Army

DWGS60008 Special Assistant to the Assistant Secretary of the Army (Installations and Environment). Effective July 02, 2004

Section 213.3310 Department of Justice

DJGS00029 Special Assistant to the Chairman, Foreign Claims Settlement Commission. Effective July 27, 2004

Section 213.3311 Department of Homeland Security

DMGS00245 Executive Assistant to the Executive Secretary. Effective July 02, 2004

DMGS00248 Senior Advisor to the Assistant Secretary for Infrastructure Protection. Effective July 08, 2004

DMGS00250 Public Outreach Specialist to the Director of Special Projects. Effective July 08, 2004

DMGS00249 Press Assistant to the Deputy Assistant Secretary for Public Affairs. Effective July 12, 2004

DMGS00247 Senior Editor and Correspondence Analyst to the Executive Secretary. Effective July 16, 2004

DMGS00252 Confidential Assistant to the Under Secretary for Information Analysis and Infrastructure Protection. Effective July 16, 2004

DMGS00258 Advance Representative to the Director of Scheduling and Advance. Effective July 16, 2004

DMGS00261 Writer Editor (Speechwriter) to the Director of Speechwriting. Effective July 26, 2004

DMGS00280 Confidential Assistant to the Chief of Staff. Effective July 26, 2004

DMGS00254 Executive Assistant to the Assistant Secretary for Plans, Programs and Budgets. Effective July 27, 2004

DMGS00253 Assistant Director of Legislative Affairs for Secretarial Offices to the Director of Legislative Affairs for Secretarial Offices. Effective July 29, 2004

Section 213.3312 Department of the Interior

DIGS61022 Deputy Press Secretary to the Director, Office of Communications. Effective July 26, 2004

DIGS61020 Speechwriter to the Director, Office of Communications. Effective July 27, 2004

Section 213.3313 Department of Agriculture

DAGS60111 Confidential Assistant to the Under Secretary for Marketing and Regulatory Programs. Effective July 02, 2004

DAGS00721 Confidential Assistant to the Administrator for Risk Management. Effective July 08, 2004

DAGS00722 Speech Writer to the Director, Office of Communications. Effective July 16, 2004

DAGS60422 Confidential Assistant to the Administrator, Farm Service Agency. Effective July 16, 2004

DAGS00723 Special Assistant to the Administrator, Farm Service Agency. Effective July 23, 2004

Section 213.3314 Department of Commerce

DCGS00257 Confidential Assistant to the Deputy Assistant Secretary for Europe. Effective July 02, 2004

DCGS60393 Legislative Affairs Specialist to the Deputy Assistant Secretary for Legislative and Intergovernmental Affairs. Effective July 02, 2004

DCGS00419 Confidential Assistant to the Director of Global Trade Programs. Effective July 08, 2004

DCGS00344 Deputy Press Secretary to the Director of Public Affairs. Effective July 09, 2004

DCGS00400 Deputy Press Secretary to the Director of Public Affairs. Effective July 09, 2004

DCGS00666 Confidential Assistant to the Director, Office of Legislative Affairs. Effective July 16, 2004

DCGS60004 Deputy Director to the Director, Executive Secretariat. Effective July 16, 2004

DCGS00685 Deputy Director, Office of Policy and Strategic Planning to the Assistant to the Secretary and Director, Office of Policy and Strategic Planning. Effective July 22, 2004

Section 213.3315 Department of Labor

DLGS60114 Special Assistant to the Assistant Secretary for Public Affairs. Effective July 06, 2004

DLGS60084 Staff Assistant to the Executive Secretary. Effective July 12, 2004

DLGS60170 Special Assistant to the Secretary of Labor. Effective July 16, 2004

Section 213.3316 Department of Health and Human Services

DHGS60688 Associate Director for Legislative Policy to the Director, Office of Legislation. Effective July 09, 2004

DHGS60690 Senior Advisor to the Assistant Secretary for Health. Effective July 16, 2004

DHGS60692 Congressional Liaison Specialist to the Deputy Assistant Secretary for Legislative (Congressional Liaison). Effective July 16, 2004

Section 213.3317 Department of Education

DBGS00338 Confidential Assistant to the Deputy Secretary of Education. Effective July 02, 2004

DBGS00339 Special Assistant to the Deputy Secretary of Education. Effective July 02, 2004

DBGS00342 Deputy Secretary's Regional Representative to the Deputy Assistant Secretary for Regional Services. Effective July 02, 2004

DBGS00343 Confidential Assistant to the Assistant Secretary for Legislation and Congressional Affairs. Effective July 09, 2004

DBGS00344 Special Assistant to the Deputy Assistant Secretary. Effective July 22, 2004

DBGS00345 Confidential Assistant to the Assistant Secretary for Elementary and Secondary Education. Effective July 22, 2004

DBGS00347 Confidential Assistant to the Deputy Secretary of Education. Effective July 22, 2004

DBGS00340 Confidential Assistant to the Deputy Assistant Secretary. Effective July 28, 2004

Section 213.3318 Environmental Protection Agency

EPGS04015 Lead Advance Representative to the Associate Assistant Administrator for Public Affairs. Effective July 02, 2004

EPGS04014 Public Liaison Specialist to the Assistant Administrator for Enforcement and Compliance Assurance. Effective July 16, 2004

EPGS04023 Special Assistant to the Associate Administrator for Congressional and Intergovernmental Relations. Effective July 30, 2004

Section 213.3325 United States Tax Court

JCGS60069 Trial Clerk to the Chief Judge. Effective July 22, 2004

JCGS60073 Trial Clerk to the Chief Judge. Effective July 22, 2004

Section 213.3331 Department of Energy

DEGS00423 Legislative Specialist to the Deputy Assistant Secretary for Intergovernmental and External Affairs. Effective July 16, 2004

DEGS00424 Senior Policy Advisor to the Associate Deputy Secretary. Effective July 16, 2004

DEGS00425 Senior Policy Advisor to the Director, Nuclear Energy. Effective July 30, 2004

Section 213.3332 Small Business Administration

SBGS00555 Legislative Assistant to the Associate Administrator for Congressional and Legislative Affairs. Effective July 06, 2004

SBGS00553 Associate Administrator for International Trade to the Associate Deputy Administrator for Capital Access. Effective July 16, 2004

SBGS60193 Director of Scheduling to the Chief of Staff and Chief Operations Officer. Effective July 30, 2003

SBGS60183 Press Secretary to the Assistant Administrator for Communications and Public Liaison. Effective July 30, 2003

Section 213.3343 Farm Credit Administration

FLOT00054 Chief of Staff to the Chairman, Farm Credit Administration Board. Effective July 16, 2004

Section 213.3348 National Aeronautics and Space Administration

NNGS00044 Legislative Affairs Specialist to the Assistant Administrator for Legislative Affairs. Effective July 08, 2004

Section 213.3370 Millennium Challenge Corporation

MCGS00001 Executive Assistant to the Chief Executive Officer. Effective July 2, 2004

Section 213.3384 Department of Housing and Urban Development

DUGS00032 Deputy Assistant Secretary for Congressional Relations to the Assistant Secretary for Public and Indian Housing. Effective July 22, 2004

DUGS60151 Staff Assistant to the Assistant Secretary for Public Affairs. Effective July 22, 2004

DUGS60598 Special Counselor to the Secretary. Effective July 22, 2004

DUGS00044 Special Assistant to the Deputy Secretary. Effective July 23, 2004

DUGS60610 Staff Assistant to the President, Government National Mortgage Association. Effective July 29, 2004

Section 213.3394 Department of Transportation

DTGS60017 Assistant to the Secretary for Policy. Effective July 22, 2004

DTGS60351 Counselor to the Deputy Secretary. Effective July 23, 2004

Section 213.3396 National Transportation Safety Board

TBGS60105 Confidential Assistant to the Vice Chairman. Effective July 02, 2004

Authority: 5 U.S.C. 3301 and 3302; E.O. 10577, 3 CFR 1954-1958 Comp., P.218.

Office of Personnel Management.
Kay Coles James,
Director.

[FR Doc. 04-19250 Filed 8-20-04; 8:45 am]

BILLING CODE 6325-39-P